FEDERAL RESERVE SYSTEM

[Docket No. R-1072]

Privacy Act of 1974; Notice of New System of Records

AGENCY: Board of Governors of the Federal Reserve System.

ACTION: Notice of new system of records.

SUMMARY: In accordance with the Privacy Act, the Board of Governors of the Federal Reserve System (Board) is publishing notice of one new system of records, entitled Multi-rater Feedback Records (BGFRS-25). We invite public comment on this new system of records.

DATES: Comment must be received on or before June 29, 2000.

ADDRESSES: Comments, which should refer to Docket No. R-1072, may be mailed to Ms. Jennifer J. Johnson, Secretary, Board of Governors of the Federal Reserve System, 20th Street and Constitution Avenue, N.W., Washington, D.C. 20551 or mailed electronically to regs.comments@federalreserve.gov. Comments addressed to Ms. Johnson also may be delivered to the Board's mail room between 8:45 a.m. and 5:15 p.m. weekdays and to the security control room outside of those hours. The mail room and the security control room are accessible from the Eccles Building courtyard entrance, located on 20th Street between Constitution Avenue and C Street, NW. Comments may be inspected in Room MP-500 between 9 a.m. and 5 p.m.

FOR FURTHER INFORMATION CONTACT: Elaine M. Boutilier, Senior Counsel, Legal Division (202/452-2418), or Chris Fields, Manager, Human Resources Function, Management Division (202/452-3654), Board of Governors of the Federal Reserve System, 20th Street and Constitution Avenue, NW, Washington, DC 20551. For users of the Telecommunications Device for the Deaf (TDD) only, contact Janice Simms at 202/452-4984.

SUPPLEMENTARY INFORMATION: The Board is instituting a feedback program for its managers and officers. Under this Multi-rater Feedback program, Board employees who work for or with a particular manager or officer are asked to complete a voluntary, confidential questionnaire regarding the performance of that manager/officer and send it directly to a consultant hired by the Board for this program. The consultant analyzes the completed questionnaires and compiles a report for the manager/officer that summarizes the comments from the questionnaires. This report does not identify individual comments or those who completed the questionnaires. The report is given only to the manager/officer being evaluated; no other Board employee or officer receives a copy of the report. The consultant maintains all of the data connected with this program, identified only by the name of the manager/officer being evaluated. The data is stored by name of the officer/manager being evaluated, and thus is considered to be a system of records under the Privacy Act.

In accordance with 5 U.S.C. 552a(r), a report of this new system of records is being filed with the Chair of the House Committee on Government Reform and Oversight, the Chair of the Senate Committee on Governmental Affairs, and the Office of Management and Budget. This new system of records will become effective on June 28, 2000, without further notice, unless the Board publishes a notice to the contrary in the Federal Register.

BGFRS-25

System name:

Multi-rater Feedback Records.

Security classification:

None.

System location:

Board of Governors of the Federal Reserve System, 20th Street and Constitution Avenue, NW., Washington, DC 20551.

The completed multi-rater questionnaires and the resulting feedback reports are maintained by an outside consultant (“Contractor”) pursuant to a contract with the Board. Based on the information provided by the completed questionnaires, the Contractor will provide an individual feedback report to the individual being evaluated. With the exception of the feedback report that is provided to the individual being evaluated, no individually-identifiable information is maintained on the Board's premises.

Categories of individuals covered by the system:

Current and former employees of the Board.

Categories of records in the system:

Questionnaires completed by employees, analyses of the questionnaires, and feedback reports compiled by the Contractor based upon the analyses.

Authority for maintenance of the system:

Section 11 of the Federal Reserve Act (12 U.S.C. 248(i) and 248(l)).

Purpose(s):

These records are collected and maintained to assist the Board in administering its personnel functions and improving the management skills of its employees.

Routine uses of records maintained in the system, including categories of users and the purposes of such uses:

The information in the records may be used:

a. By the National Archives and Records Administration in connection with records management inspections and its role as Archivist.

b. To disclose to contractors, grantees or volunteers performing or working on a contract, service, grant, cooperative agreement, or job for the Board.

c. To provide information to a congressional office from the record of an individual in response to an inquiry from the congressional office made at the request of the individual.

d. To disclose information to another Federal agency, a court, or a party in litigation before a court or in an administrative proceeding being conducted by a Federal agency, when the Board is a party to the judicial or administrative proceeding.

e. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

f. To disclose information to the Equal Employment Opportunity Commission when requested in connection with investigations or other functions vested in the Commission.

g. To disclose information to the Merit Systems Protection Board or the Office of Special Counsel in connection with appeals, special studies of the civil service and other merit systems, review of Office rules and regulations, investigation of alleged practices, and such other functions promulgated in 5 U.S.C. chapter 12, or as may be authorized by law.

h. To disclose information to the Federal Labor Relations Authority (including its General Counsel) when requested in connection with the investigation and resolution of allegations of unfair labor practices, in connection with the resolution of exceptions to arbitrator's awards where a question of material fact is raised, and matters before the Federal Service Impasses Panel.

i. To disclose information to an arbitrator to resolve disputes under a negotiated grievance procedure or to officials of labor organizations recognized under 5 U.S.C. chapter 71 when relevant and necessary to their duties of exclusive representation.

j. To disclose, in response to a request for discovery or for appearance of a witness, information that is relevant to the subject matter involved in a pending judicial or administrative proceeding.

Disclosure to consumer reporting agencies:

Not applicable.

Policies and practices for storing, retrieving, accessing, retaining, and disposing of records in the system:

Storage:

The records are maintained in paper and electronic format in a secure location by the Contractor.

Retrievability:

Information is retrieved by the name of the individual being evaluated.

Safeguards:

The Contractor maintains strict confidentiality of the information. Information in these files is not provided to Board employees, except the individual being evaluated.

Retention and disposal:

Each feedback report and the information related to that report shall be retained by Contractor for 5 years after the date of the report, then destroyed.

System manager(s) and address:

Associate Director, Human Resources Function, Management Division, Board of Governors of the Federal Reserve System, 20th Street & Constitution Avenue, NW, Washington, DC 20551.

Notification procedure:

Inquiries should be sent to the Secretary of the Board, Board of Governors of the Federal Reserve System, 20th Street and Constitution Avenue, NW, Washington, DC 20551. The request should contain the individual's name, date of birth, Social Security number, identification number (if known), approximate date of record, and type of position.

Record access procedures:

Same as “Notification procedure” above.

Contesting record procedures:

Same as “ Notification procedure” above.

Record source categories:

The individual being evaluated.

The employees completing the questionnaires.

Systems exempted from certain provisions of the act:

Pursuant to the Privacy Act, 5 U.S.C. 552a(k)(5), and the Board's regulation relating thereto (12 CFR part 261a), the individual questionnaires contained in this system of records are exempted from 5 U.S.C. 552a(c)(3), (d)(1), (d)(2), (d)(3), (d)(4), (e)(1), (e)(4)(G), (H), and (I).

By order of the Board of Governors of the Federal Reserve System, May 19, 2000.
Jennifer J. Johnson,
Secretary of the Board.

[FR Doc. 00-13126 Filed 5-26-00; 8:45 am]

BILLING CODE 6210-01-P